ENVIRONMENTAL PROTECTION AGENCY

[EPA-HQ-ORD-2005-0028; FRL-7999-9]

Notice of Availability of the Draft Quality Assurance Project Plan for the Alternative Asbestos Control Method Demonstration Project

AGENCY: Environmental Protection Agency (EPA).

ACTION: Notice of document availability.

SUMMARY: The U.S. Environmental Protection Agency is submitting the draft Quality Assurance Project Plan (QAPP) for the Alternative Asbestos Control Method (AACM) Demonstration Project for independent external peer review. Prior to the meeting of the external peer review panel, there will be a 30-day public comment period. All comments received during this comment period will be shared with the external peer review panel for their consideration. The public release of this draft document is solely for the purpose of seeking public comment. This draft QAPP does not represent and should not be construed to represent any EPA policy, viewpoint, or determination. Members of the public may obtain the draft QAPP from http://www.regulations.gov; or from Dr. Neil Stiber via the contact information below. The U.S. EPA plans to perform a controlled demonstration to evaluate the AACM alongside the current National Emissions Standards for Hazardous Air Pollutants (NESHAP) method. A remote, secure location at Fort Chaffee, Arkansas, has been selected as the site for this demonstration demolition. To facilitate side-by-side comparison, the site has several similar structures with asbestos-containing materials. Additional information about this research project, including a description of the AACM and the project schedule, is available at http://epa.gov/region6/6xa/asbestos.htm.

DATES: Comments must be received on or before January 9, 2006.

ADDRESSES: Submit your comments, identified by Docket ID No. EPA-HQ-ORD-2005-0028, by one of the following methods:

• http://www.regulations.gov: Follow the on-line instructions for submitting comments.

• E-mail: ORD.Docket@epa.gov.

• Mail: ORD Docket, Environmental Protection Agency, Mailcode: 28221T, 1200 Pennsylvania Ave., NW., Washington, DC 20460.

• Hand Delivery: EPA Docket Center (EPA/DC), Room B102, EPA West Building, 1301 Constitution Avenue, NW., Washington, DC 20460, Attention Docket ID No. EPA-HQ-ORD-2005-0028. Deliveries are only accepted from 8:30 a.m. to 4:30 p.m., Monday through Friday, excluding legal holidays. Special arrangements should be made for deliveries of boxed information.

Instructions: Direct your comments to Docket ID No. EPA-HQ-ORD-2005-0028. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA, without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in www.regulations.gov or in hard copy at the ORD Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the ORD Docket is (202) 566-1752.

FOR FURTHER INFORMATION CONTACT: Dr. Neil Stiber, Office of Research and Development, Mail Code 8104-R, Environmental Protection Agency, 1200 Pennsylvania Avenue, NW., Washington, DC 20460; telephone number: (202) 564-1573; fax number: (202) 565-2925, e-mail: stiber.neil@epa.gov.

Dated: December 5, 2005.
Kevin Y. Teichman,
Director, Office of Science Policy.

[FR Doc. E5-7097 Filed 12-8-05; 8:45 am]

BILLING CODE 6560-50-P